NUCLEAR REGULATORY COMMISSION

[Docket Nos. 50-277 and 50-278]

Exelon Generating Company, LLC; Peach Bottom Atomic Power Station, Units 2 and 3; Notice of Availability of the Final Supplement 10 to the Generic Environmental Impact Statement Regarding License Renewal for the Peach Bottom Atomic Power Station, Units 2 and 3

Notice is hereby given that the U.S. Nuclear Regulatory Commission (NRC) has published a final plant-specific Supplement 10 to the Generic Environmental Impact Statement (GEIS), NUREG-1437, regarding the renewal of operating licenses DPR-44 and DPR-56 for the Peach Bottom Atomic Power Station, Units 2 and 3, for an additional 20 years of operation. The Peach Bottom Atomic Power Station units are operated by Exelon Generating Company, LLC and PSEG Nuclear, LLC (Exelon). Peach Bottom Atomic Power Station is located primarily in Peach Bottom Township, York County, Pennsylvania. Possible alternatives to the proposed action (license renewal) include no action and reasonable alternative methods of power generation.

It is stated in section 9.3 of the report:

Based on (1) the analysis and findings in the Generic Environmental Impact Statement for License Renewal of Nuclear Plants, NUREG-1437; (2) the Environmental Report submitted by Exelon; (3) consultation with Federal, State, and local agencies; (4) the staff's own independent review; and (5) the staff's consideration of public comments, the staff recommends that the Commission determine that the adverse environmental impacts of license renewal for Peach Bottom Units 2 and 3 are not so great that preserving the option of license renewal for energy planning decision makers would be unreasonable.

The final Supplement 10 to the GEIS is available electronically for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov (the Public Electronic Reading Room). Persons who do not have access to ADAMS or who encounter problems in accessing the documents located in ADAMS, should contact the PDR reference staff at 1-800-397-4209, 301-415-4737, or by e-mail to pdr@nrc.gov.

FOR FURTHER INFORMATION CONTACT: Mr. Louis L. Wheeler, License Renewal and Environmental Impacts Program, Division of Regulatory Improvement Programs, U.S. Nuclear Regulatory Commission, Washington, DC 20555. Mr. Wheeler may be contacted at 301-415-1444 or by writing to: Louis L. Wheeler, U.S. Nuclear Regulatory Commission, MS O-12D3, Washington, DC 20555.

Dated in Rockville, Maryland, this 22nd day of January, 2003.
For the Nuclear Regulatory Commission.
Pao-Tsin Kuo,
Program Director, License Renewal and Environmental Impacts Program, Division of Regulatory Improvement Programs, Office of Nuclear Reactor Regulation.

[FR Doc. 03-1859 Filed 1-27-03; 8:45 am]

BILLING CODE 7590-01-P